DEPARTMENT OF DEFENSE

GENERAL SERVICES ADMINISTRATION

NATIONAL AERONAUTICS AND SPACE ADMINISTRATION

[OMB Control No. 9000-0075]

Federal Acquisition Regulation; Information Collection; Government Property

AGENCIES: Department of Defense (DOD), General Services Administration (GSA), and National Aeronautics and Space Administration (NASA).

ACTION: Notice of request for public comments regarding a revision to an existing OMB clearance (9000-0075).

SUMMARY: Under the provisions of the Paperwork Reduction Act of 1995 (44 U.S.C. Chapter 35), the Federal Acquisition Regulation (FAR) Secretariat will be submitting to the Office of Management and Budget (OMB) a request to revise a currently approved information collection requirement concerning Government Property. This OMB clearance expires on February 28, 2010.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before June 11, 2007.

ADDRESSES: Submit comments, including suggestions for reducing this burden to the General Services Administration, FAR Secretariat (VIR), 1800 F Street, NW, Room 4035, Washington, DC 20405.

FOR FURTHER INFORMATION CONTACT: Jeritta Parnell, Contract Policy Division, GSA (202) 501-4082.

SUPPLEMENTARY INFORMATION:

A. Purpose

Property, as used in Part 45, means all property, both real and personal. Government property includes both Government-furnished property and contractor-acquired property.

Contractors are required to manage (control, use, preserve, protect, repair, and maintain) Government property in its possession consistent with voluntary consensus standards or in the absence of such standards, industry leading practices and standards for property management because the contractor is responsible and accountable for all Government property under the provisions of the contract including property located with subcontractors.

Contractors shall develop property management plans and systems to obtain best value.

This clearance covers the following requirements:

(a) FAR 45.606-1 requires a contractor to submit inventory schedules.

(b) FAR 45.606-3(a) requires a contractor to correct and resubmit inventory schedules as necessary.

(c) FAR 52.245-1(f)(1)(ii) requires contractors to receive, record, identify and manage Government property.

(d) FAR 52.245-1(f)(1)(iii) requires contractors to create and maintain records of all Government property accountable to the contract.

(e) FAR 52.245-1(f)(1)(iv) requires contractors to periodically perform, record, and report physical inventories during contract performance.

(f) FAR 52.245-1(f)(1)(vi) requires contractors to have a process to create and provide reports.

(g) FAR 52.245-1(f)(1)(viii) requires contractors to promptly disclose and report Government Property in its possession that is excess to contract performance.

(h) FAR 52.245-1(f)(1)(ix) requires contractors to disclose and report to the Property Administrator the need for replacement and/or capital rehabilitation.

(i) FAR 52.245-1(f)(1)(x) requires contractors to perform and report to the Property Administrator contract property closeout.

(j) FAR 52.245-1(f)(2) requires contractors to establish and maintain source data, particularly in the areas of recognition of acquisitions and dispositions of material and equipment.

(k) FAR 52.245-1(j)(4) requires contractors to submit inventory disposal schedules to the Plant Clearance Officer.

(l) FAR 52.245-9(d) requires a contractor to identify the property for which rental is requested.

B. Annual Reporting Burden

Number of Respondents: 15,100.

Responses per Respondent: 896.71.

Total Responses: 13,540,450.

Average Burden Hours Per Response: .46.

Total Burden Hours: 6,226,350.

The total burden hours have changed under this OMB clearance 9000-0075 to reflect the incorporation of hours currently associated with OMB clearance 9000-0075(FAR Case 2004-025).

Obtaining Copies of Proposals: Requesters may obtain a copy of the information collection documents from the General Services Administration, FAR Secretariat (VIR), Room 4035, 1800 F Street,NW, Washington, DC 20405, telephone (202) 501-4755. Please cite OMB Control No. 9000-0075, Government Property, in all correspondence.

Dated: May 2, 2007.
Al Matera,
Acting Director, Contract Policy Division

[FR Doc. 07-2254 Filed 5-10-07; 8:45 am]

BILLING CODE 6820-EP-S